DEPARTMENT OF COMMERCE

National Oceanic and Atmospheric Administration

RIN 0648-XF663

New England Fishery Management Council; Public Meeting

AGENCY: National Marine Fisheries Service (NMFS), National Oceanic and Atmospheric Administration (NOAA), Commerce.

ACTION: Notice; public meeting.

SUMMARY: The New England Fishery Management Council (Council) is scheduling a public meeting of its Groundfish Committee to consider actions affecting New England fisheries in the exclusive economic zone (EEZ). Recommendations from this group will be brought to the full Council for formal consideration and action, if appropriate.

DATES: This meeting will be held on Thursday, September 21, 2017 at 8:30 a.m.

ADDRESSES: The meeting will be held at the Fairfield Inn & Suites, 185 MacArthur Drive, New Bedford, MA 02740; phone: (774) 634-2000.

Council address: New England Fishery Management Council, 50 Water Street, Mill 2, Newburyport, MA 01950.

FOR FURTHER INFORMATION CONTACT: Thomas A. Nies, Executive Director, New England Fishery Management Council; telephone: (978) 465-0492.

SUPPLEMENTARY INFORMATION:

Agenda

The Groundfish Committee plans to discuss Framework Adjustment 57/Specifications and Management Measures. They will receive a report from the Transboundary Management and Guidance Committee (TMGC) on US/CA stocks—Georges Bank yellowtail flounder, Eastern GB (EGB) cod, and EGB haddock Receive a report from the Groundfish Plan Development Team (PDT) on adjusting: common pool trimester total allowable catches (TACs), Atlantic halibut accountability measures (AMs), and Windowpane flounder AMs for large mesh/non-groundfish fisheries (e.g., scup and summer flounder trawl fisheries). They will also discuss draft alternatives and make recommendations to the Council. The committee will be discussing Groundfish Amendment 23 Groundfish Monitoring Amendment. They will review a draft outline prepared by the PDT of the likely range of alternatives and make recommendations to the Council. The committee will hold initial discussion of possible groundfish priorities for 2018 and develop recommendations to the Council. The committee will discuss regulatory streamlining in response to recent Executive Orders. Several recent Executive Orders have been issued about streamlining current regulations, and NOAA is seeking public input on the efficiency and effectiveness of current regulations and whether they can be improved. They plan to discuss whether there are any regulations in the Northeast Multispecies fishery management plan that could be eliminated, improved, or streamlined. Other business will be discussed as necessary.

Although non-emergency issues not contained in this agenda may come before this group for discussion, those issues may not be the subject of formal action during these meetings. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Thomas A. Nies, Executive Director, at (978) 465-0492, at least 5 days prior to the meeting date. This meeting will be recorded. Consistent with 16 U.S.C. 1852, a copy of the recording is available upon request.

Authority: 16 U.S.C. 1801 et seq.

Dated: August 29, 2017.
Tracey L. Thompson,
Acting Deputy Director, Office of Sustainable Fisheries, National Marine Fisheries Service.

[FR Doc. 2017-18603 Filed 8-31-17; 8:45 am]

BILLING CODE 3510-22-P